DEPARTMENT OF DEFENSE

Department of the Army

Army Science Board Plenary Meeting

AGENCY: Department of the Army, DoD.

ACTION: Notice of open meeting.

SUMMARY: Pursuant to the Federal Advisory Committee Act (FACA) of 1972 (5 U. S. C., Appendix, as amended), the Sunshine in the Government Act of 1976 (U. S. C. 552b, as amended) and 41 Code of the Federal Regulations (CFR 102-3. 140 through 160, the Department of the Army announces the following committee meeting:

Name of Committee: Army Science Board (ASB).

Date(s) of Meeting: 26 Jan 2010-Tuesday.

Time(s) of Meeting: 0830-1000.

Location: Crystal City Marriott, 1999 Jefferson Davis Highway, Arlington VA, 22202.

Purpose: The Army Science Board will receive a report and vote on the findings and recommendations for the Institutionalization of Innovation in the Army study.

Proposed Agenda:

Tuesday

0830-1000 Findings and Recommendations of the Institutionalization of Innovation in the Army study.

The board will conduct internal business before and after the public session.

FOR FURTHER INFORMATION CONTACT: For information please contact Mr. Justin Bringhurst at justin.bringhurst@us.army.mil or (703) 604-7468 or Carolyn German at carolyn.t.german@us.army.mil or (703) 604-7490.

Brenda S. Bowen,
Army Federal Register Liaison Officer.

[FR Doc. E9-30753 Filed 12-28-09; 8:45 am]

BILLING CODE 3710-08-P